DEPARTMENT OF TRANSPORTATION

Federal Aviation Administration

Notice of Intent To Rule on Application 03-02-U-00-PIT To Use the Revenue From a Passenger Facility Charge (PFC) at Pittsburgh International Airport, Pittsburgh, PA

AGENCY: Federal Aviation Administration (FAA), DOT.

ACTION: Notice of intent to rule on application.

SUMMARY: The FAA proposes to rule and invites public comment on the application to use the revenue from a PFC at Pittsburgh International Airport under the provisions of the 49 U.S.C. 40117 and part 158 of the Federal Aviation Regulations (14 CFR part 158).

DATES: Comments must be received on or before September 26, 2003.

ADDRESSES: Comments on this application may be mailed or delivered in triplicate to the FAA at the following address: Ms. Lori Ledebohm, Community Planner/PFC Contact, Harrisburg Airports District Office, 3905 Hartzdale Drive, Suite 508, Camp Hill, PA 17011.

In addition, one copy of any comments submitted to the FAA must be mailed or delivered to John R. Serpa of Allegheny County Airport Authority at the following address: 1000 Airport Blvd., P.O. Box 12370, Pittsburgh, PA 15231-0370.

Air carriers and foreign air carriers may submit copies of written comments previously provided to Allegheny County Airport Authority under section 158.23 of part 158.

FOR FURTHER INFORMATION CONTACT: Lori Ledebohm, Community Planner/PFC contact, Harrisburg Airports District Office, 3905 Hartzdale Drive, Suite 508, Camp Hill, PA 17011, 717-730-2835. The application may be reviewed in person at this same location.

SUPPLEMENTARY INFORMATION: The FAA proposes to rule and invites public comment on the application to use the revenue from a PFC at Pittsburgh International Airport under the provisions of the 49 U.S.C. 40117 and part 158 of the Federal Aviation Regulations (14 CFR part 158).

On August 8, 2003, the FAA determined that the application to use the revenue from a PFC submitted by Allegheny County Airport Authority was substantially complete within the requirements of section 158.25 of part 158. The FAA will approve or disapprove the application, in whole or in part, no later than November 7, 2003.

The following is a brief overview of the application:

Proposed charge effective date: October 1, 2001.

Proposed charge expiration date: October 1, 2006.

Level of the proposed PFC: $3.00.

Total estimated PFC revenue: $125,000.

Brief description of proposed project(s): Replace Security Fence.

Class or classes of air carriers which the public agency has requested not be required to collect PFCs: non-schedule on demand air carriers filing form 1800-31.

Any person may inspect the application in person at the FAA office listed above under FOR FURTHER INFORMATION CONTACT and at the FAA regional Airports office located at: Eastern Region, Airports Division, AEA-610, 1 Aviation Plaza, Jamaica, New York 11434.

In addition, any person may, upon request, inspect the application, notice and other documents germane to the application in person at the Allegheny County Airport Authority.

Issued in Camp Hill, PA on August 20, 2003.
Lori Ledebohm,
PFC Coordinator, Harrisburg Airports District Office, Eastern Region.

[FR Doc. 03-21960 Filed 8-26-03; 8:45 am]

BILLING CODE 4910-13-M